DEPARTMENT OF VETERANS AFFAIRS

[OMB Control No. 2900-0249]

Agency Information Collection Activity Under OMB Review: Loan Service Report

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by October 17, 2025.

ADDRESSES: To submit comments and recommendations for the proposed information collection, please type the following link into your browser: www.reginfo.gov/public/do/PRAMain, select “Currently under Review—Open for Public Comments”, then search the list for the information collection by Title or “OMB Control No. 2900-0249.”

FOR FURTHER INFORMATION CONTACT: VA PRA information: Dorothy Glasgow, 202-461-1084, VAPRA@va.gov.

SUPPLEMENTARY INFORMATION:

Title: VA Form 26-6808, Loan Service Report.

OMB Control Number: 2900-0249 https://www.reginfo.gov/public/do/PRASearch.

Type of Review: Extension without change of a currently approved collection.

Abstract: The main purpose of the form is to service delinquent guaranteed and insured loans, as well as and loans sold under 38 CFR 36.4600. The loan holder is primarily responsible for servicing these guaranteed and insured home loans and loans sold under 38 CFR 36.4600. The information documented on the form is necessary for VA to determine whether a loan default is insoluble or whether the obligor has reasonable prospects for curing the default and maintaining the mortgage obligation in the future.

An agency may not conduct or sponsor, and a person is not required to respond to a collection of information unless it displays a currently valid OMB control number. The Federal Register Notice with a 60-day comment period soliciting comments on this collection of information was published at 90 FR 31581, July 14, 2025.

Affected Public: Individuals or Households.

Estimated Annual Burden: 2,083 hours.

Estimated Average Burden per Respondent: 25 minutes.

Frequency of Response: Annually.

Estimated Number of Respondents: 5,000.

Authority: 44 U.S.C. 3501 et seq.

Dorothy Glasgow,
Acting, VA PRA Clearance Officer, Office of Enterprise and Integration, Data Governance Analytics, Department of Veterans Affairs.

[FR Doc. 2025-17947 Filed 9-16-25; 8:45 am]

BILLING CODE 8320-01-P